DEPARTMENT OF THE INTERIOR

Bureau of Indian Affairs

Yurok Tribe Sale and Consumption of Alcoholic Beverages

AGENCY: Bureau of Indian Affairs, Interior.

ACTION: Notice.

SUMMARY: This notice publishes the Yurok Tribe's Liquor Control Ordinance. The Ordinance regulates and controls the possession, sale and consumption of liquor on the Yurok Reservation. This ordinance allows for the possession and sale of alcoholic beverages on the Yurok Reservation, permits alcohol sales by tribally owned and operated enterprises, and increases the ability of the tribal government to control Reservation liquor distribution and possession. At the same time, it will provide an important source of revenue for the continued operation and strengthening of the tribal government and the delivery of tribal services.

EFFECTIVE DATE: This Code is effective on August 6, 2004.

FOR FURTHER INFORMATION CONTACT: Clay Gregory, Acting Regional Director, Pacific Regional Office, 2800 Cottage Way, Sacramento, CA 95825; Telephone (916) 978-6000 or Ralph Gonzales, Office of Tribal Services, Bureau of Indian Affairs, 1951 Constitution Avenue, NW., MS-320-SIB, Washington, DC 20240; telephone (202) 513-7629.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Yurok Tribe adopted the Liquor Ordinance on December 19, 2003. The purpose of this ordinance is to govern the sale, possession and distribution of alcohol on the Yurok Reservation.

This notice is published in accordance with the authority delegated by the Secretary of the Interior to the Assistant Secretary—Indian Affairs.

I certify that the Yurok Tribe's Liquor Ordinance was duly adopted by the Yurok Tribal Council on December 19, 2003.

Dated: July 30, 2004.
David W. Anderson,
Assistant Secretary—Indian Affairs.

Yurok Tribe of California Liquor Control Ordinance

Be it enacted by the Tribal Council of the Yurok Tribe of California as follows:

Article 1: Name: This statute shall be known as the Yurok Tribe Liquor Control Ordinance.

Article 2: Authority: This statute is enacted pursuant to the Act of August 15, 1953, (Pub. L. 83-277, 67 Stat. 588, 18 U.S.C. 1161) and Article VI of the Constitution of the Yurok Tribe of California.

Article 3: Purpose: The purpose of this statute is to regulate and control the possession and sale of liquor on the Yurok Reservation, and to permit alcohol sales by tribally owned and operated enterprises, and at tribally approved special events, for the purpose of the economic development of the Tribe. The enactment of a tribal statute governing liquor possession and sales on the Yurok Reservation will increase the ability of the tribal government to control Reservation liquor distribution and possession, and will provide an important source of revenue for the continued operations and strengthening of the tribal government, the economic viability of tribal enterprises, and the delivery of tribal government services. This Liquor Control Ordinance is in conformity with the laws of the State of California as required by 18 U.S.C. 1161, and with all applicable federal laws.

Article 4: Effective Date: This statute shall be effective as of the date of its publication in the Federal Register.

Article 5: Possession of Alcohol: The introduction or possession of alcoholic beverages shall be lawful within the exterior boundaries of the Yurok Reservation, provided that such sales are in conformity with the laws of the State of California.

Article 6: Sales of Alcohol:

(a) The sale of alcoholic beverages by business enterprises owned by and subject to the control of the Tribe shall be lawful within the exterior boundaries of the Yurok Reservation; provided that such sales are in conformity with the laws of the State of California.

(b) The sale of alcoholic beverages by the drink at special events authorized by the Tribe shall be lawful within the exterior boundaries of the Yurok Reservation; provided that such sales are in conformity with the laws of the State of California and with prior approval by the Tribe.

Article 7: Age Limits: The drinking age within the Yurok Reservation shall be the same as that of the State of California, which is currently 21 years. No person under the age of 21 years shall purchase, possess or consume any alcoholic beverage. At such time, if any, as California Business and Profession case 25658, which sets the drinking age for the State of California, is repealed or amended to raise or lower the drinking age within California, this Article shall automatically become null and void, and the Tribal Council shall be empowered to amend this Article to match the age limit imposed by State law, such amendment to become effective upon publication in the Federal Register by the Secretary of the Interior.

Article 8: Civil Penalties: The Tribe, through its Tribal Council shall have the authority to enforce this statute by confiscating any liquor sold, possessed or introduced in violation hereof. The Tribal Council shall be empowered to sell such confiscated liquor for the benefit of the Tribe and to develop and approve such regulation as may become necessary for enforcement of this ordinance.

Article 9: Prior Inconsistent Enactments: Any prior tribal laws, resolutions, or statutes, which are inconsistent with this statute, are hereby repealed to the extent they are inconsistent with this statute.

Article 10: Sovereign Immunity: Nothing contained in this statute is intended to, nor does in any way, limit, alter, restrict, or waive the sovereign immunity of the Tribe or any of its agencies from un-consented suit or action of any kind.

Article 11: Severability: If any provision of this statute is found by any agency or court of competent jurisdiction to be unenforceable, the remaining provisions shall be unaffected thereby.

Article 12: Amendment: This statute may be amended by a majority vote of the Tribal Council of the Tribe at a duly noticed Tribal Council meeting, such amendment to become effective upon publication in the Federal Register by the Secretary of the Interior.

Certification

This is to certify that this Liquor Control Ordinance was approved at a regularly scheduled meeting of the Yurok Tribal Council on 12/19/03, at which a quorum was present and that this ordinance was adopted by a vote of 6 For, 2 Opposed, 0 Abstentions. This ordinance has not been rescinded or amended in any way.

Dated this 19th day of December 2003.
Howard McConnell,
Chairperson, Yurok Tribal Council.
Attest:
Fawn Murphy,
Recording Secretary, Yurok Tribal Council.

[FR Doc. 04-17976 Filed 8-5-04; 8:45 am]

BILLING CODE 4310-4J-P